DEPARTMENT OF COMMERCE

National Oceanic and Atmospheric Administration

[RTID 0648-XE516]

Fisheries of the Exclusive Economic Zone off Alaska; North Pacific Observer Program Standard Ex-Vessel Prices

AGENCY: National Marine Fisheries Service (NMFS), National Oceanic and Atmospheric Administration (NOAA), Commerce.

ACTION: Notification of standard ex-vessel prices.

SUMMARY: NMFS publishes standard ex-vessel prices for groundfish and halibut for the calculation of the observer fee under the North Pacific Observer Program (Observer Program). This notice is intended to provide information to vessel owners, processors, registered buyers, and other Observer Program participants about the standard ex-vessel prices that will be used to calculate the Observer Program fee associated with landings of groundfish and halibut made in 2025. NMFS will send invoices to processors and registered buyers subject to the fee by January 15, 2026. Fees are due to NMFS on or before February 15, 2026.

DATES: The standard prices take effect on January 1, 2025.

ADDRESSES: Additional information about the Observer Program is available on NMFS Alaska Region's website at https://www.fisheries.noaa.gov/alaska/fisheries-observers/north-pacific-observer-program.

FOR FURTHER INFORMATION CONTACT: For general questions about the observer fee and standard ex-vessel prices, contact Amy Hadfield at (907) 586-7376. For questions about the fee billing process, contact Charmaine Weeks at (907) 586-7231.

SUPPLEMENTARY INFORMATION:

Background

Regulations at 50 CFR part 679, subpart E, governing the Observer Program, require the deployment of NMFS-certified observers (observers) and electronic monitoring (EM) systems to collect information necessary for the conservation and management of the Bering Sea and Aleutian Islands (BSAI) and Gulf of Alaska (GOA) groundfish and halibut fisheries. Fishery managers use information collected by observers and EM to monitor quotas, manage groundfish and prohibited species catch, and document and reduce fishery interactions with protected resources. Scientists use observer-collected information for stock assessments and marine ecosystem research.

The Observer Program includes two observer coverage categories: the partial coverage category and the full coverage category. All groundfish and halibut vessels and processors subject to observer coverage are included in one of these two categories. Defined at § 679.51, the partial coverage category includes vessels and processors that are not required to have an observer or EM at all times when fishing, and the full coverage category includes vessels and processors required to have all of their fishing and processing activity observed. Vessels and processors in the full coverage category arrange and pay for observer services from a permitted observer provider. Observer coverage and EM for the partial coverage category is funded through a system of fees based on the ex-vessel value of groundfish and halibut. Throughout this notice, the term “processor” refers to shoreside processors, stationary floating processors, and catcher/processors in the partial coverage category.

Landings Subject to Observer Coverage Fee

Pursuant to section 313 of the Magnuson-Stevens Fishery Conservation and Management Act, NMFS is authorized to assess a fee on all landings accruing against a Federal total allowable catch (TAC) for groundfish or commercial halibut quota landings made by vessels that are subject to Federal regulations and not included in the full coverage category. A fee is only assessed on landings of groundfish from vessels designated on a Federal Fisheries Permit or from vessels landing individual fishing quota (IFQ) or community development quota (CDQ) halibut or IFQ sablefish. Within the subset of vessels subject to the observer fee, only landings accruing against an IFQ allocation or a Federal TAC for groundfish are included in the fee assessment. A table with additional information about which landings are subject to the observer fee is at § 679.55(c) and on page 2 of an informational bulletin titled “Observer Fee Collection” that can be downloaded from the NMFS Alaska Region website at https://www.fisheries.noaa.gov/resource/document/observer-fee-collection-north-pacific-groundfish-and-halibut-fisheries-observer.

Fee Determination

A fee equal to 1.65 percent of the ex-vessel value is assessed on the landings of groundfish and halibut subject to the fee. Ex-vessel value is determined by multiplying the standard price for groundfish by the round weight equivalent for each species, gear, and port combination, and the standard price for halibut by the headed and gutted weight equivalent. Standard prices are determined by aggregating prices by species, gear, and area grouping to arrive at an average price per pound for each grouping. NMFS reviews each vessel landing report and determines whether the reported landing is subject to the observer fee and, if so, which groundfish species in the landing are subject to the observer fee. All IFQ or CDQ halibut in a landing subject to the observer fee will be included in the observer fee calculation. For any landed groundfish or halibut subject to the observer fee, NMFS will apply the appropriate standard ex-vessel prices for the species, gear type, and port and calculate the observer fee associated with the landing.

Processors and registered buyers can access the landing-specific, observer fee information through the NMFS Web Application (https://alaskafisheries.noaa.gov/webapps/efish/login) or eLandings (https://elandings.alaska.gov/). Landing-specific observer fee information is either available immediately or within 24 hours after a landing report is submitted electronically. A time lag occurs for some landings because NMFS must process each landing report through the catch accounting system to determine which groundfish in a landing accrues against a Federal TAC and are subject to the observer fee.

Under the fee system, catcher vessel owners split the fee with the registered buyers or owners of shoreside or stationary floating processors. While the owners of catcher vessels and processors in the partial coverage category are each responsible for paying their portion of the fee, the owners of shoreside or stationary floating processors and registered buyers are responsible for collecting the fees from catcher vessels and remitting the full fee to NMFS. Owners of catcher/processors in the partial coverage category are responsible for remitting the full fee to NMFS.

NMFS sends invoices to processors and registered buyers by January 15 of each calendar year. The total fee amount is determined by the sum of the fees reported for each landing at that processor or registered buyer in the prior calendar year. Processors and registered buyers must pay the fees to NMFS using eFISH. Payments are due by February 15 of each year. Processors and registered buyers have access to this system through a User ID and password issued by NMFS. Instructions for electronic payment are provided on the NMFS Alaska Region website at https://www.fisheries.noaa.gov/alaska/commercial-fishing/observer-fee-collection-and-payment-north-pacific-groundfish-and-halibut and on the observer fee invoice to be mailed to each processor and registered buyer.

Standard Prices

This notification provides the standard ex-vessel prices for groundfish and halibut species subject to the observer fee in 2025. Data sources for ex-vessel prices include the following:

• For groundfish other than sablefish IFQ and sablefish accruing against the fixed gear sablefish CDQ reserve, the State of Alaska's Commercial Fishery Entry Commission's (CFEC) gross revenue data, which are based on the Commercial Operator Annual Report (COAR) and Alaska Department of Fish and Game (ADF&G) fish tickets; and

• For halibut IFQ, halibut CDQ, sablefish IFQ, and sablefish accruing against the fixed gear sablefish CDQ reserve, the IFQ Buyer Report that is submitted to NMFS annually by each registered buyer that operates as a shoreside processor and receives and purchases IFQ landings of sablefish and halibut or CDQ landings of halibut under § 679.5(l)(7)(i).

The standard prices in this notification were calculated using the following procedures for protecting confidentiality of data submitted to or collected by NMFS. NMFS does not publish any price information that would permit the identification of an individual or business. For NMFS to publish a standard price for a particular species-gear-port combination, the price data used to calculate the standard price must represent landings from at least four different vessels delivered to at least three different processors in a port or port group. NMFS has aggregated price data that are confidential because fewer than four vessels or three processors contributed data to a particular species-gear-port combination.

Groundfish Standard Ex-Vessel Prices

Table 1 shows the groundfish species standard ex-vessel prices that will be used to calculate the fee for 2025. These prices are based on the CFEC gross revenue data, which are based on landings data from ADF&G fish tickets and information from the COAR. The COAR contains statewide buying and production information and is considered the most complete routinely collected information to determine the ex-vessel value of groundfish harvested from waters off Alaska.

The standard ex-vessel prices for groundfish were calculated by adding ex-vessel value from the CFEC gross revenue files for 2021, 2022, and 2023 by species, port, and gear category, and adding the volume (round weight equivalent) from the CFEC gross revenue files for 2021, 2022, and 2023 by species, port, and gear category, and then dividing total ex-vessel value over the 3 year period in each category by total volume over the 3 year period in each category. This calculation results in an average ex-vessel price per pound by species, port, and gear category for the 3 year period. Three gear categories were used for the standard ex-vessel prices: (1) non-trawl gear, including hook-and-line, pot, jig, troll, and others (Non-Trawl); (2) non-pelagic trawl gear (NPT); and (3) pelagic trawl gear (PTR).

CFEC ex-vessel value and volume data are available in the fall of the year following the year the fishing occurred. Thus, it is not possible to base ex-vessel fee liabilities on standard prices that are less than two years old. For the 2025 groundfish standard ex-vessel prices, the most recent ex-vessel value and volume data available are from 2023.

If a particular groundfish species is not listed in table 1, the standard ex-vessel price for a species group (if it exists in the management area) will be used. If price data for a particular species remained confidential once aggregated to the outside of Alaska (ALL) level, data are aggregated by species group (Flathead Sole; GOA Deep-water Flatfish; GOA Shallow-water Flatfish; GOA Skate, Other; and Other Rockfish). Standard prices for the groundfish species groups are shown in table 2.

If a port-level price does not meet the confidentiality requirements, the data are aggregated by port group. Port-group data for Southeast Alaska (SEAK) and the Eastern GOA excluding Southeast Alaska (EGOAxSE) also are presented separately when price data are available. Port-group data are aggregated by regulatory area in the GOA (Eastern GOA, Central GOA, and Western GOA) and by subarea in the BSAI (BS subarea and AI subarea). If confidentiality requirements are still not met by aggregating prices across ports at these levels, the prices are aggregated at the level of BSAI or GOA, then statewide (AK) and ports outside of Alaska (OTAK), and finally all ports, including those outside of Alaska (ALL).

Standard prices are presented separately for non-pelagic trawl and pelagic trawl when non-confidential data are available. NMFS also calculated prices for a “Pelagic Trawl/Non-pelagic Trawl Combined” (PTR/NPT) category that can be used when combining trawl price data for landings of a species in a particular port or port group will not violate confidentiality requirements. Creating this standard price category allows NMFS to assess a fee on 2025 landings of some of the species with pelagic trawl gear based on a combined trawl gear price for the port or port group. If confidentiality requirements are still not met with the PTR/NPT category, fixed and trawl gear prices are combined for an all gear price.

If no standard ex-vessel price is listed for a species or species group and gear category combination in table 1, table 2, or table 3, no fee will be assessed on that landing. Volume and value data for that species will be added to the standard ex-vessel prices in future years, if the data become available and display of a standard ex-vessel price meets confidentiality requirements.

Table 1—Standard Ex-Vessel Prices for Groundfish Species for 2025 Observer Coverage Fee
[Based on volume and value from 2021, 2022, and 2023]
Species (species code) 1 2 | Port/area 3 4 | Non-trawl | NPT | PTR | PTR/NPT
Arrowtooth Flounder (121) | ALL | $0.06 | ---- | ---- | $0.06
Black Rockfish (142) | AK | 0.86 | ---- | ---- | ----
Blackgill Rockfish (177) | GOA | 0.39 | ---- | ---- | ----
Blackgill Rockfish (177) | AK | 0.39 | ---- | ---- | ----
Blackgill Rockfish (177) | ALL | 0.39 | ---- | ---- | ----
Bocaccio Rockfish (137) | Sitka | 0.41 | ---- | ---- | ----
Bocaccio Rockfish (137) | SEAK | 0.41 | ---- | ---- | ----
Bocaccio Rockfish (137) | EGOA | 0.37 | ---- | ---- | ----
Bocaccio Rockfish (137) | GOA | 0.37 | ---- | ---- | ----
Bocaccio Rockfish (137) | AK | 0.37 | ---- | ---- | ----
Bocaccio Rockfish (137) | ALL | 0.36 | ---- | ---- | ----
Butter Sole (126) | Kodiak | ---- | $0.09 | ---- | $0.09
Butter Sole (126) | CGOA | ---- | 0.09 | ---- | 0.09
Butter Sole (126) | GOA | ---- | 0.09 | ---- | 0.09
Butter Sole (126) | AK | ---- | 0.09 | ---- | 0.09
Butter Sole (126) | ALL | ---- | 0.09 | ---- | 0.09
Canary Rockfish (146) | Juneau | 0.32 | ---- | ---- | ----
Canary Rockfish (146) | Petersburg | 0.25 | ---- | ---- | ----
Canary Rockfish (146) | Sitka | 0.43 | ---- | ---- | ----
Canary Rockfish (146) | SEAK | 0.38 | ---- | ---- | ----
Canary Rockfish (146) | EGOA | 0.38 | ---- | ---- | ----
Canary Rockfish (146) | Seward | 0.37 | ---- | ---- | ----
Canary Rockfish (146) | CGOA | 0.37 | ---- | ---- | ----
Canary Rockfish (146) | GOA | 0.38 | ---- | ---- | ----
Canary Rockfish (146) | AK | 0.38 | ---- | ---- | ----
Canary Rockfish (146) | ALL | 0.38 | ---- | ---- | ----
China Rockfish (149) | SEAK | 0.26 | ---- | ---- | ----
China Rockfish (149) | Cordova | 0.43 | ---- | ---- | ----
China Rockfish (149) | EGOAxSE | 0.39 | ---- | ---- | ----
China Rockfish (149) | Homer | 0.36 | ---- | ---- | ----
China Rockfish (149) | Seward | 0.22 | ---- | ---- | ----
China Rockfish (149) | CGOA | 0.27 | ---- | ---- | ----
China Rockfish (149) | GOA | 0.30 | ---- | ---- | ----
China Rockfish (149) | AK | 0.30 | ---- | ---- | ----
China Rockfish (149) | ALL | 0.30 | ---- | ---- | ----
Copper Rockfish (138) | Sitka | 0.39 | ---- | ---- | ----
Copper Rockfish (138) | SEAK | 0.30 | ---- | ---- | ----
Copper Rockfish (138) | Cordova | 0.43 | ---- | ---- | ----
Copper Rockfish (138) | EGOAxSE | 0.42 | ---- | ---- | ----
Copper Rockfish (138) | Homer | 0.41 | ---- | ---- | ----
Copper Rockfish (138) | Seward | 0.35 | ---- | ---- | ----
Copper Rockfish (138) | CGOA | 0.36 | ---- | ---- | ----
Copper Rockfish (138) | GOA | 0.37 | ---- | ---- | ----
Copper Rockfish (138) | AK | 0.37 | ---- | ---- | ----
Copper Rockfish (138) | ALL | 0.37 | ---- | ---- | ----
Dusky Rockfish (172) | Juneau | 0.15 | ---- | ---- | ----
Dusky Rockfish (172) | Petersburg | 0.56 | ---- | ---- | ----
Dusky Rockfish (172) | Sitka | 0.45 | ---- | ---- | ----
Dusky Rockfish (172) | SEAK | 0.37 | ---- | ---- | ----
Dusky Rockfish (172) | Cordova | 0.46 | ---- | ---- | ----
Dusky Rockfish (172) | Homer | 0.37 | ---- | ---- | ----
Dusky Rockfish (172) | Kodiak | 0.86 | 0.13 | 0.12 | ----
Dusky Rockfish (172) | Seward | 0.24 | ---- | ---- | ----
Dusky Rockfish (172) | CGOA | 0.63 | 0.13 | 0.12 | ----
Dusky Rockfish (172) | GOA | 0.60 | 0.13 | 0.12 | ----
Dusky Rockfish (172) | AK | 0.59 | 0.13 | 0.12 | ----
Dusky Rockfish (172) | ALL | 0.59 | 0.13 | 0.12 | ----
English Sole (128) | Kodiak | ---- | 0.06 | ---- | 0.06
English Sole (128) | CGOA | ---- | 0.06 | ---- | 0.06
English Sole (128) | GOA | ---- | 0.06 | ---- | 0.06
English Sole (128) | AK | ---- | 0.06 | ---- | 0.06
English Sole (128) | ALL | ---- | 0.06 | ---- | 0.06
Flathead Sole (122) | Kodiak | ---- | 0.06 | ---- | 0.06
Flathead Sole (122) | CGOA | ---- | 0.06 | ---- | 0.06
Flathead Sole (122) | GOA | ---- | 0.06 | ---- | 0.06
Flathead Sole (122) | AK | ---- | 0.06 | ---- | 0.06
Flathead Sole (122) | ALL | ---- | 0.06 | ---- | 0.06
Northern Rockfish (136) | Kodiak | ---- | ---- | ---- | 0.13
Northern Rockfish (136) | CGOA | ---- | ---- | ---- | 0.13
Northern Rockfish (136) | GOA | ---- | ---- | ---- | 0.13
Northern Rockfish (136) | AK | ---- | ---- | ---- | 0.13
Northern Rockfish (136) | ALL | ---- | ---- | ---- | 0.13
Octopus (870) | Kodiak | 0.46 | ---- | 0.48 | 0.50
Octopus (870) | CGOA | 0.46 | ---- | 0.48 | 0.50
Octopus (870) | GOA | 0.67 | 0.50 | 0.48 | ----
Octopus (870) | BS | 0.52 | ---- | ---- | ----
Octopus (870) | BSAI | 0.52 | ---- | ---- | ----
Octopus (870) | AK | 0.61 | 0.50 | 0.48 | ----
Octopus (870) | ALL | 0.61 | 0.50 | 0.48 | ----
Pacific Cod (110) | Craig | 0.44 | ---- | ---- | ----
Pacific Cod (110) | Juneau | 0.69 | ---- | ---- | ----
Pacific Cod (110) | Petersburg | 0.54 | ---- | ---- | ----
Pacific Cod (110) | Sitka | 0.69 | ---- | ---- | ----
Pacific Cod (110) | Wrangell | 0.35 | ---- | ---- | ----
Pacific Cod (110) | SEAK | 0.66 | ---- | ---- | ----
Pacific Cod (110) | Cordova | 0.38 | ---- | ---- | ----
Pacific Cod (110) | Whittier | 0.36 | ---- | ---- | ----
Pacific Cod (110) | EGOAxSE | 0.38 | ---- | ---- | ----
Pacific Cod (110) | Homer | 0.35 | ---- | ---- | ----
Pacific Cod (110) | Kodiak | 0.44 | 0.38 | 0.35 | ----
Pacific Cod (110) | Seward | 0.36 | ---- | ---- | ----
Pacific Cod (110) | CGOA | 0.41 | 0.38 | 0.35 | ----
Pacific Cod (110) | King Cove | 0.40 | ---- | ---- | ----
Pacific Cod (110) | Sand Point | 0.42 | ---- | ---- | ----
Pacific Cod (110) | WGOA | 0.40 | ---- | ---- | ----
Pacific Cod (110) | GOA | ---- | 0.39 | 0.36 | ----
Pacific Cod (110) | Dutch Harbor | 0.44 | 0.54 | ---- | 0.54
Pacific Cod (110) | BS | 0.46 | 0.52 | ---- | 0.52
Pacific Cod (110) | BSAI | 0.46 | 0.51 | ---- | 0.51
Pacific Cod (110) | Stationary Floating Processor | 0.38 | ---- | ---- | ----
Pacific Cod (110) | AK | 0.41 | 0.43 | 0.36 | ----
Pacific Cod (110) | OTAK | 0.36 | ---- | ---- | ----
Pacific Cod (110) | ALL | 0.41 | 0.43 | 0.36 | ----
Pacific Ocean Perch (141) | Kodiak | ---- | 0.14 | 0.14 | ----
Pacific Ocean Perch (141) | CGOA | ---- | 0.14 | 0.14 | ----
Pacific Ocean Perch (141) | GOA | 0.17 | 0.14 | 0.13 | ----
Pacific Ocean Perch (141) | AK | 0.16 | 0.14 | 0.13 | ----
Pacific Ocean Perch (141) | ALL | 0.16 | 0.14 | 0.13 | ----
Pollock (270) | Homer | 0.48 | ---- | ---- | ----
Pollock (270) | Kodiak | 0.11 | 0.10 | 0.14 | ----
Pollock (270) | CGOA | 0.14 | 0.10 | 0.14 | ----
Pollock (270) | GOA | 0.14 | 0.11 | 0.14 | ----
Pollock (270) | Dutch Harbor | ---- | ---- | 0.18 | 0.18
Pollock (270) | BS | ---- | ---- | 0.17 | 0.17
Pollock (270) | BSAI | ---- | ---- | 0.17 | 0.17
Pollock (270) | AK | 0.14 | 0.11 | 0.14 | ----
Pollock (270) | ALL | 0.14 | 0.11 | 0.14 | ----
Quillback Rockfish (147) | Craig | 0.42 | ---- | ---- | ----
Quillback Rockfish (147) | Juneau | 0.38 | ---- | ---- | ----
Quillback Rockfish (147) | Petersburg | 0.30 | ---- | ---- | ----
Quillback Rockfish (147) | Sitka | 0.45 | ---- | ---- | ----
Quillback Rockfish (147) | Wrangell | 0.38 | ---- | ---- | ----
Quillback Rockfish (147) | SEAK | 0.43 | ---- | ---- | ----
Quillback Rockfish (147) | Cordova | 0.43 | ---- | ---- | ----
Quillback Rockfish (147) | EGOAxSE | 0.37 | ---- | ---- | ----
Quillback Rockfish (147) | Homer | 0.31 | ---- | ---- | ----
Quillback Rockfish (147) | Kodiak | 0.28 | ---- | ---- | ----
Quillback Rockfish (147) | Seward | 0.29 | ---- | ---- | ----
Quillback Rockfish (147) | CGOA | 0.29 | ---- | ---- | ----
Quillback Rockfish (147) | GOA | 0.34 | ---- | ---- | ----
Quillback Rockfish (147) | AK | 0.34 | ---- | ---- | ----
Quillback Rockfish (147) | ALL | 0.34 | ---- | ---- | ----
Redbanded Rockfish (153) | Juneau | 0.34 | ---- | ---- | ----
Redbanded Rockfish (153) | Ketchikan | 0.20 | ---- | ---- | ----
Redbanded Rockfish (153) | Petersburg | 0.23 | ---- | ---- | ----
Redbanded Rockfish (153) | Sitka | 0.41 | ---- | ---- | ----
Redbanded Rockfish (153) | SEAK | 0.34 | ---- | ---- | ----
Redbanded Rockfish (153) | EGOAxSE | 0.26 | ---- | ---- | ----
Redbanded Rockfish (153) | Homer | 0.18 | ---- | ---- | ----
Redbanded Rockfish (153) | Kodiak | 0.16 | ---- | ---- | ----
Redbanded Rockfish (153) | Seward | 0.29 | ---- | ---- | ----
Redbanded Rockfish (153) | CGOA | 0.24 | ---- | ---- | ----
Redbanded Rockfish (153) | GOA | 0.32 | ---- | ---- | ----
Redbanded Rockfish (153) | AK | 0.32 | ---- | ---- | ----
Redbanded Rockfish (153) | ALL | 0.32 | ---- | ---- | ----
Redstripe Rockfish (158) | SEAK | 0.29 | ---- | ---- | ----
Redstripe Rockfish (158) | EGOA | 0.36 | ---- | ---- | ----
Redstripe Rockfish (158) | Seward | 0.18 | ---- | ---- | ----
Redstripe Rockfish (158) | CGOA | 0.18 | ---- | ---- | ----
Redstripe Rockfish (158) | GOA | 0.23 | ---- | ---- | ----
Redstripe Rockfish (158) | AK | 0.23 | ---- | ---- | ----
Redstripe Rockfish (158) | ALL | 0.23 | ---- | ---- | ----
Rex Sole (125) | Kodiak | ---- | 0.16 | ---- | 0.16
Rex Sole (125) | CGOA | ---- | 0.16 | ---- | 0.16
Rex Sole (125) | GOA | ---- | 0.16 | ---- | 0.16
Rex Sole (125) | AK | ---- | 0.16 | ---- | 0.16
Rex Sole (125) | ALL | ---- | 0.16 | ---- | 0.16
Rock Sole (123) | Kodiak | ---- | 0.11 | ---- | 0.11
Rock Sole (123) | CGOA | ---- | 0.11 | ---- | 0.11
Rock Sole (123) | GOA | ---- | 0.11 | ---- | 0.11
Rock Sole (123) | AK | ---- | 0.11 | ---- | 0.11
Rock Sole (123) | ALL | ---- | 0.11 | ---- | 0.11
Rosethorn Rockfish (150) | Seward | 0.17 | ---- | ---- | ----
Rosethorn Rockfish (150) | CGOA | 0.17 | ---- | ---- | ----
Rosethorn Rockfish (150) | GOA | 0.33 | ---- | ---- | ----
Rosethorn Rockfish (150) | AK | 0.33 | ---- | ---- | ----
Rosethorn Rockfish (150) | ALL | 0.33 | ---- | ---- | ----
Rougheye Rockfish (151) | Juneau | 0.28 | ---- | ---- | ----
Rougheye Rockfish (151) | Ketchikan | 0.24 | ---- | ---- | ----
Rougheye Rockfish (151) | Petersburg | 0.29 | ---- | ---- | ----
Rougheye Rockfish (151) | Sitka | 0.42 | ---- | ---- | ----
Rougheye Rockfish (151) | SEAK | 0.37 | ---- | ---- | ----
Rougheye Rockfish (151) | Cordova | 0.42 | ---- | ---- | ----
Rougheye Rockfish (151) | EGOAxSE | 0.28 | ---- | ---- | ----
Rougheye Rockfish (151) | Homer | 0.30 | ---- | ---- | ----
Rougheye Rockfish (151) | Kodiak | 0.32 | 0.11 | 0.15 | ----
Rougheye Rockfish (151) | Seward | 0.28 | ---- | ---- | ----
Rougheye Rockfish (151) | CGOA | 0.29 | 0.11 | 0.15 | ----
Rougheye Rockfish (151) | GOA | 0.34 | 0.11 | 0.15 | ----
Rougheye Rockfish (151) | BS | 0.13 | ---- | ---- | ----
Rougheye Rockfish (151) | BSAI | 0.13 | ---- | ---- | ----
Rougheye Rockfish (151) | AK | 0.34 | 0.11 | 0.15 | ----
Rougheye Rockfish (151) | ALL | 0.34 | 0.11 | 0.15 | ----
Sablefish (blackcod) (710) | Kodiak | n/a ⁵ | 1.32 | 1.52 | ----
Sablefish (blackcod) (710) | CGOA | n/a ⁵ | 1.32 | 1.52 | ----
Sablefish (blackcod) (710) | GOA | n/a ⁵ | 1.32 | 1.52 | ----
Sablefish (blackcod) (710) | AK | n/a ⁵ | 1.33 | 1.52 | ----
Sablefish (blackcod) (710) | ALL | n/a ⁵ | 1.33 | 1.52 | ----
Shortraker Rockfish (152) | Juneau | 0.37 | ---- | ---- | ----
Shortraker Rockfish (152) | Petersburg | 0.28 | ---- | ---- | ----
Shortraker Rockfish (152) | Sitka | 0.42 | ---- | ---- | ----
Shortraker Rockfish (152) | SEAK | 0.40 | ---- | ---- | ----
Shortraker Rockfish (152) | Cordova | 0.42 | ---- | ---- | ----
Shortraker Rockfish (152) | Whittier | 0.17 | ---- | ---- | ----
Shortraker Rockfish (152) | EGOAxSE | 0.22 | ---- | ---- | ----
Shortraker Rockfish (152) | Homer | 0.13 | ---- | ---- | ----
Shortraker Rockfish (152) | Kodiak | 0.22 | 0.12 | 0.16 | ----
Shortraker Rockfish (152) | Seward | 0.33 | ---- | ---- | ----
Shortraker Rockfish (152) | CGOA | 0.30 | 0.12 | 0.16 | ----
Shortraker Rockfish (152) | GOA | 0.35 | 0.12 | 0.16 | ----
Shortraker Rockfish (152) | AK | 0.35 | 0.12 | 0.16 | ----
Shortraker Rockfish (152) | OTAK | 0.14 | ---- | ---- | ----
Shortraker Rockfish (152) | ALL | 0.35 | 0.12 | 0.16 | ----
Silvergray Rockfish (157) | Juneau | 0.34 | ---- | ---- | ----
Silvergray Rockfish (157) | Sitka | 0.41 | ---- | ---- | ----
Silvergray Rockfish (157) | Wrangell | 0.52 | ---- | ---- | ----
Silvergray Rockfish (157) | SEAK | 0.37 | ---- | ---- | ----
Silvergray Rockfish (157) | Cordova | 0.41 | ---- | ---- | ----
Silvergray Rockfish (157) | EGOAxSE | 0.26 | ---- | ---- | ----
Silvergray Rockfish (157) | Homer | 0.15 | ---- | ---- | ----
Silvergray Rockfish (157) | Seward | 0.34 | ---- | ---- | ----
Silvergray Rockfish (157) | CGOA | 0.33 | ---- | ---- | ----
Silvergray Rockfish (157) | GOA | 0.34 | ---- | ---- | ----
Silvergray Rockfish (157) | AK | 0.34 | ---- | ---- | ----
Silvergray Rockfish (157) | ALL | 0.34 | ---- | ---- | ----
Skate, Big (702) | EGOA | 0.39 | ---- | ---- | ----
Skate, Big (702) | Kodiak | 0.45 | 0.40 | 0.45 | ----
Skate, Big (702) | Seward | 0.29 | ---- | ---- | ----
Skate, Big (702) | CGOA | 0.38 | 0.40 | 0.45 | ----
Skate, Big (702) | GOA | 0.38 | 0.40 | 0.45 | ----
Skate, Big (702) | AK | 0.38 | 0.40 | 0.45 | ----
Skate, Big (702) | ALL | 0.38 | 0.40 | 0.45 | ----
Skate, Longnose (701) | EGOA | 0.36 | ---- | ---- | ----
Skate, Longnose (701) | Homer | 0.13 | ---- | ---- | ----
Skate, Longnose (701) | Kodiak | 0.43 | 0.45 | 0.45 | ----
Skate, Longnose (701) | Seward | 0.33 | ---- | ---- | ----
Skate, Longnose (701) | CGOA | 0.36 | 0.45 | 0.45 | ----
Skate, Longnose (701) | GOA | 0.36 | 0.45 | 0.45 | ----
Skate, Longnose (701) | AK | 0.36 | 0.45 | 0.45 | ----
Skate, Longnose (701) | ALL | 0.35 | 0.45 | 0.45 | ----
Skate, Other (700) | GOA | 0.39 | ---- | ---- | ----
Skate, Other (700) | AK | 0.39 | ---- | ---- | ----
Skate, Other (700) | ALL | 0.39 | ---- | ---- | ----
Thornyhead Rockfish (Idiots) (143) | Juneau | 0.93 | ---- | ---- | ----
Thornyhead Rockfish (Idiots) (143) | Ketchikan | 0.72 | ---- | ---- | ----
Thornyhead Rockfish (Idiots) (143) | Petersburg | 0.86 | ---- | ---- | ----
Thornyhead Rockfish (Idiots) (143) | Sitka | 0.74 | ---- | ---- | ----
Thornyhead Rockfish (Idiots) (143) | SEAK | 0.78 | ---- | ---- | ----
Thornyhead Rockfish (Idiots) (143) | Cordova | 0.42 | ---- | ---- | ----
Thornyhead Rockfish (Idiots) (143) | Whittier | 0.21 | ---- | ---- | ----
Thornyhead Rockfish (Idiots) (143) | EGOAxSE | 0.48 | ---- | ---- | ----
Thornyhead Rockfish (Idiots) (143) | Homer | 0.39 | ---- | ---- | ----
Thornyhead Rockfish (Idiots) (143) | Kodiak | 0.49 | ---- | ---- | ----
Thornyhead Rockfish (Idiots) (143) | Seward | 0.78 | ---- | ---- | ----
Thornyhead Rockfish (Idiots) (143) | CGOA | 0.71 | ---- | ---- | ----
Thornyhead Rockfish (Idiots) (143) | GOA | 0.74 | ---- | ---- | ----
Thornyhead Rockfish (Idiots) (143) | BS | 0.31 | ---- | ---- | ----
Thornyhead Rockfish (Idiots) (143) | BSAI | 0.31 | ---- | ---- | ----
Thornyhead Rockfish (Idiots) (143) | AK | 0.72 | ---- | ---- | ----
Thornyhead Rockfish (Idiots) (143) | OTAK | 0.15 | ---- | ---- | ----
Thornyhead Rockfish (Idiots) (143) | ALL | 0.72 | ---- | ---- | ----
Tiger Rockfish (148) | Juneau | 0.29 | ---- | ---- | ----
Tiger Rockfish (148) | Sitka | 0.37 | ---- | ---- | ----
Tiger Rockfish (148) | SEAK | 0.41 | ---- | ---- | ----
Tiger Rockfish (148) | Cordova | 0.44 | ---- | ---- | ----
Tiger Rockfish (148) | EGOAxSE | 0.39 | ---- | ---- | ----
Tiger Rockfish (148) | Homer | 0.17 | ---- | ---- | ----
Tiger Rockfish (148) | Seward | 0.27 | ---- | ---- | ----
Tiger Rockfish (148) | CGOA | 0.24 | ---- | ---- | ----
Tiger Rockfish (148) | GOA | 0.29 | ---- | ---- | ----
Tiger Rockfish (148) | AK | 0.29 | ---- | ---- | ----
Tiger Rockfish (148) | ALL | 0.29 | ---- | ---- | ----
Vermilion Rockfish (184) | SEAK | 0.51 | ---- | ---- | ----
Vermilion Rockfish (184) | EGOA | 0.51 | ---- | ---- | ----
Vermilion Rockfish (184) | GOA | 0.51 | ---- | ---- | ----
Vermilion Rockfish (184) | AK | 0.51 | ---- | ---- | ----
Vermilion Rockfish (184) | ALL | 0.51 | ---- | ---- | ----
Yelloweye Rockfish (145) | Craig | 1.20 | ---- | ---- | ----
Yelloweye Rockfish (145) | Juneau | 0.94 | ---- | ---- | ----
Yelloweye Rockfish (145) | Ketchikan | 0.58 | ---- | ---- | ----
Yelloweye Rockfish (145) | Petersburg | 1.01 | ---- | ---- | ----
Yelloweye Rockfish (145) | Sitka | 1.33 | ---- | ---- | ----
Yelloweye Rockfish (145) | Wrangell | 0.89 | ---- | ---- | ----
Yelloweye Rockfish (145) | SEAK | 1.13 | ---- | ---- | ----
Yelloweye Rockfish (145) | Cordova | 0.68 | ---- | ---- | ----
Yelloweye Rockfish (145) | EGOAxSE | 0.48 | ---- | ---- | ----
Yelloweye Rockfish (145) | Homer | 0.68 | ---- | ---- | ----
Yelloweye Rockfish (145) | Kodiak | 0.38 | ---- | 0.21 | 0.27
Yelloweye Rockfish (145) | Seward | 0.68 | ---- | ---- | ----
Yelloweye Rockfish (145) | CGOA | 0.62 | ---- | 0.21 | 0.27
Yelloweye Rockfish (145) | GOA | 0.92 | ---- | 0.21 | 0.27
Yelloweye Rockfish (145) | BS | 0.41 | ---- | ---- | ----
Yelloweye Rockfish (145) | BSAI | 0.41 | ---- | ---- | ----
Yelloweye Rockfish (145) | AK | 0.91 | ---- | 0.21 | 0.27
Yelloweye Rockfish (145) | ALL | 0.90 | ---- | 0.21 | 0.27
Yellowtail Rockfish (155) | Sitka | 0.53 | ---- | ---- | ----
Yellowtail Rockfish (155) | SEAK | 0.48 | ---- | ---- | ----
Yellowtail Rockfish (155) | EGOA | 0.48 | ---- | ---- | ----
Yellowtail Rockfish (155) | Seward | 0.27 | ---- | ---- | ----
Yellowtail Rockfish (155) | CGOA | 0.59 | ---- | ---- | ----
Yellowtail Rockfish (155) | GOA | 0.54 | ---- | ---- | ----
Yellowtail Rockfish (155) | AK | 0.54 | ---- | ---- | ----
Yellowtail Rockfish (155) | ALL | 0.45 | ---- | ---- | ----
---- = no landings in last 3 years or the data is confidential.
¹ If species is not listed, use price for the species group in table 2 if it exists in the management area. If no price is available for the species or species group in table 1, table 2, or table 3, no fee will be assessed on that landing. That species will come into standard ex-vessel prices in future years.
² For species codes, see table 2a to 50 CFR part 679.
³ Regulatory areas are defined at § 679.2. (AI = Aleutian Islands subarea; AK = Alaska; ALL = all ports including those outside Alaska; BS = Bering Sea subarea; BSAI = Bering Sea/Aleutian Islands; CGOA = Central Gulf of Alaska; EGOA = Eastern Gulf of Alaska; EGOAxSE = Eastern Gulf of Alaska except Southeast Alaska; GOA = Gulf of Alaska; SEAK = Southeast Alaska; WGOA = Western Gulf of Alaska).
⁴ If a price is listed for the species, port, and gear type combination, that price will be applied to the round weight equivalent for groundfish landings. If no price is listed for the port and gear type combination, use port group and gear type combination, or see table 2 or table 3.
⁵ n/a = ex-vessel prices for sablefish landed with hook-and-line, pot, or jig gear are listed in table 3 with the prices for IFQ and CDQ landings.

Table 2—Standard Ex-Vessel Prices for Groundfish Species Groups for 2025 Observer Coverage Fee
[based on volume and value from 2021, 2022, and 2023]
Species group ¹ | Port/area 2 3 | Non-trawl | NPT | PRT | PTR/NPR
BSAI Skate and GOA Skate, Other (USKT) ⁴ | GOA | $0.39 | ---- | ---- | ----
BSAI Skate and GOA Skate, Other (USKT) ⁴ | AK | 0.39 | ---- | ---- | ----
Flathead Sole (FSOL) ⁵ | Kodiak | ---- | $0.06 | ---- | $0.06
Flathead Sole (FSOL) ⁵ | CGOA | ---- | 0.06 | ---- | 0.06
Flathead Sole (FSOL) ⁵ | GOA | ---- | 0.06 | ---- | 0.06
Flathead Sole (FSOL) ⁵ | AK | ---- | 0.06 | ---- | 0.06
GOA Deep Water Flatfish ⁶ | AK | 0.06 | ---- | ---- | 0.06
GOA Shallow Water Flatfish ⁷ (SFL1) | Kodiak | ---- | 0.10 | ---- | 0.10
GOA Shallow Water Flatfish ⁷ (SFL1) | CGOA | ---- | 0.10 | ---- | 0.10
GOA Shallow Water Flatfish ⁷ (SFL1) | GOA | ---- | 0.10 | ---- | 0.10
Other Rockfish 8 9 (ROCK) | Craig | 0.31 | ---- | ---- | ----
Other Rockfish 8 9 (ROCK) | Juneau | 0.45 | ---- | ---- | ----
Other Rockfish 8 9 (ROCK) | Ketchikan | 0.30 | ---- | ---- | ----
Other Rockfish 8 9 (ROCK) | Petersburg | 0.26 | ---- | ---- | ----
Other Rockfish 8 9 (ROCK) | Sitka | 0.47 | ---- | ---- | ----
Other Rockfish 8 9 (ROCK) | Wrangell | 0.38 | ---- | ---- | ----
Other Rockfish 8 9 (ROCK) | SEAK | 0.41 | ---- | ---- | ----
Other Rockfish 8 9 (ROCK) | Cordova | 0.62 | ---- | ---- | ----
Other Rockfish 8 9 (ROCK) | EGOAxSE | 0.46 | ---- | ---- | ----
Other Rockfish 8 9 (ROCK) | Homer | 0.64 | ---- | ---- | ----
Other Rockfish 8 9 (ROCK) | Kodiak | 0.37 | ---- | $0.21 | 0.17
Other Rockfish 8 9 (ROCK) | Seward | 0.54 | ---- | ---- | ----
Other Rockfish 8 9 (ROCK) | CGOA | 0.54 | ---- | 0.21 | 0.17
Other Rockfish 8 9 (ROCK) | GOA | 0.49 | ---- | 0.21 | 0.17
Other Rockfish 8 9 (ROCK) | BS | 0.35 | ---- | ---- | ----
Other Rockfish 8 9 (ROCK) | BSAI | 0.35 | ---- | ---- | ----
Other Rockfish 8 9 (ROCK) | AK | ---- | ---- | 0.21 | 0.17
---- = no landings in last 3 years or the data is confidential.
¹ If groundfish species is not listed in table 1, use price for the species group if it exists in the management area. If no price is available for the species or species group in table 1, table 2, or table 3, no fee will be assessed on that landing. That species will come into standard ex-vessel prices in future years.
² Regulatory areas are defined at § 679.2. (AI = Aleutian Islands subarea; AK = Alaska; BS = Bering Sea subarea; CGOA = Central Gulf of Alaska; EGOA = Eastern Gulf of Alaska; EGOAxSE = Eastern Gulf of Alaska except Southeast Alaska; GOA = Gulf of Alaska; SEAK = Southeast Alaska).
³ If a price is listed for the species, port, and gear type combination, that price will be applied to the round weight equivalent for groundfish landings. If no price is listed for the port and gear type combination, use port group and gear type combination.
⁴ “BSAI Skate and GOA Stake, Other” means all skates with the exception of Raja binoculata (Big), R. rhina (Longnose), Bathyraja aleutica (Aleutian) and B. parmifera (Alaska).
⁵ “Flathead sole” includes Hippoglossoides elassodon (flathead sole) and H. robustus (Bering flounder).
⁶ “Deep-water flatfish” in the GOA means Dover sole, Greenland turbot, Kamchatka flounder, and deepsea sole.
⁷ “Shallow-water flatfish” in the GOA means flatfish not including “deep-water flatfish”, flathead sole, rex sole, or arrowtooth flounder.
⁸ In the GOA:
“Other rockfish (slope rockfish)” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail).
“Demersal shelf rockfish” means Sebastes pinniger (canary), S. nebulosus (china), S. caurinus (copper), S. maliger (quillback), S. helvomaculatus (rosethorn), S. nigrocinctus (tiger), and S. ruberrimus (yelloweye).
“Other rockfish” in the Western and Central Regulatory Areas means “other rockfish (slope rockfish)” and demersal shelf rockfish.
“Other rockfish” in the West Yakutat District of the EGOA means “other rockfish (slope rockfish),” northern rockfish, S. polyspinous, and demersal shelf rockfish.
“Other rockfish” in the SEO District of the GOA (and SEAK for Table 2) means “other rockfish (slope rockfish) and northern rockfish, S. polyspinous.
⁹ “Other rockfish” in the BSAI includes all Sebastes and Sebastolobus species except for Pacific ocean perch, northern, shortraker, and rougheye rockfish.

Halibut and Sablefish IFQ and CDQ Standard Ex-vessel Prices

Table 3 shows the observer fee standard ex-vessel prices for halibut and sablefish. These standard prices are calculated as a single annual average price, by species and port or port group. Volume and ex-vessel value data collected on the 2024 IFQ Buyer Report for landings made from October 15, 2023 through September 30, 2024 were used to calculate the standard ex-vessel prices for the 2025 observer fee for halibut IFQ, halibut CDQ, sablefish IFQ, and sablefish landings that accrue against the fixed gear sablefish CDQ reserve.

Table 3—Standard Ex-Vessel Prices for Halibut IFQ, Halibut CDQ, Sablefish IFQ, and Sablefish Accruing Against the Fixed Gear Sablefish CDQ Reserve for the 2025 Observer Fee
[based on 2024 IFQ Buyer Reports]
Species | Port/area ¹ | Price ²
Halibut (200) | Craig | $5.63
Halibut (200) | SEAK | 5.51
Halibut (200) | Cordova | 5.46
Halibut (200) | EGOAxSE | 5.44
Halibut (200) | Homer | 5.63
Halibut (200) | Kodiak | 4.88
Halibut (200) | Seward | 4.08
Halibut (200) | CGOA | 4.97
Halibut (200) | GOA | 5.19
Halibut (200) | BS | 4.15
Halibut (200) | BSAI | 4.15
Halibut (200) | AK | 5.05
Halibut (200) | ALL | 5.05
Sablefish (710) | Petersburg | 1.67
Sablefish (710) | SEAK | 1.58
Sablefish (710) | Cordova | 1.65
Sablefish (710) | EGOAxSE | 1.48
Sablefish (710) | Homer | 1.54
Sablefish (710) | Kodiak | 1.11
Sablefish (710) | Seward | 1.07
Sablefish (710) | CGOA | 1.11
Sablefish (710) | GOA | 1.30
Sablefish (710) | BS | 1.22
Sablefish (710) | BSAI | 1.22
Sablefish (710) | AK | 1.28
Sablefish (710) | ALL | 1.28
¹ Regulatory areas are defined at § 679.2. (AK = Alaska; ALL = all ports including those outside Alaska; BS = Bering Sea subarea; CGOA = Central Gulf of Alaska; EGOAxSE = Eastern Gulf of Alaska except Southeast Alaska; SEAK = Southeast Alaska; WGOA = Western Gulf of Alaska).
² If a price is listed for the species and port combination, that price will be applied to the round weight equivalent for sablefish landings and the headed and gutted weight equivalent for halibut landings. If no price is listed for the port, use port group.

Authority: 16 U.S.C. 1801 et seq.

Dated: December 19, 2024.
Kelly Denit,
Director, Office of Sustainable Fisheries, National Marine Fisheries Service.

[FR Doc. 2024-30712 Filed 12-23-24; 8:45 am]

BILLING CODE 3510-22-P